DEPARTMENT OF DEFENSE

Office of the Secretary

[Docket ID: DOD-2025-HA-0210]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 19, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Provider Beliefs Regarding the Deadlift and their Effect on Patient Management; OMB Control Number 0720-PBRD.

Needs and Uses: The United States Army implemented the Army Combat Fitness Test (ACFT) as the fitness test of record in October 2020. The ACFT contains six events, including the maximum deadlift (MDL), which is a three-repetition maximum lift using a hex (or trap) style bar. Currently, there is a paucity of literature regarding healthcare provider beliefs and the deadlift exercise. Despite limited evidence of positive association for lumbopelvic injuries and deadlift, there are concerns about the deadlift being a part of the ACFT. Given the mandatory nature of the MDL as part of the U.S. Army's annual fitness requirement, it is imperative to understand the beliefs providers possess as patients are likely to seek them out following an episode of low back pain. Their beliefs may significantly influence treatment behaviors which could positively or negatively affect patient outcomes which may affect days on limited duty, deploy ability statistics, and/or return to duty rates, all of which directly influence military readiness.

The primary aim of the survey is to assess if provider beliefs regarding the deadlift exercise differ among various healthcare provider disciplines within the military healthcare system and assess if these differences are consistent with validated treatment orientations for lower back pain, and if differences in beliefs influence treatment behaviors for a patient presenting with a deadlift injury.

Affected Public: Individuals or households.

Annual Burden Hours: 125.

Number of Respondents: 500.

Responses per Respondent: 1.

Annual Responses: 500.

Average Burden per Response: 15 minutes.

Frequency: On occasion.

Dated: July 16, 2025.
Stephanie J. Bost,
Alternate OSD Federal Register Liaison Officer, Department of Defense.

[FR Doc. 2025-13634 Filed 7-18-25; 8:45 am]

BILLING CODE 6001-FR-P